DEPARTMENT OF COMMERCE

United States Patent and Trademark Office

[Docket No. 010126025-1231-02]

RIN 0651-AB34

Request for Comments on Development of a Plan To Remove the Patent and Trademark Classified Paper Files From the Public Search Facilities; Reopening of Comment Period

AGENCY: United States Patent and Trademark Office.

ACTION: Notice of request for public comment; Reopening of comment period.

SUMMARY: The United States Patent and Trademark Office (USPTO) requests public comment on issues associated with the development of a plan to remove the patent and trademark classified paper files from the USPTO's public search libraries and replace them with electronic records. These public search facilities are currently located in Crystal City, Arlington, Virginia. Interested members of the public are invited to present comments on the appropriate scope for and contents of this plan, including the topics outlined in the SUPPLEMENTARY INFORMATION section of this notice. The Notice of Request for Comments on Development of a Plan To Remove the Patent and Trademark Classified Paper Files From the Public Search Facilities was published at 66 FR 45012 on August 27, 2001. The period for comment in the Notice of Request for Comments ended September 26, 2001. Due to the number of requests from the public for an extension of the comment period for this notice, the comment period is reopened, and comments will be accepted by the USPTO until October 29, 2001. Comments received after September 26, 2001, but before the date this notice is published will also be accepted.

DATES: Written comments will be accepted by the USPTO until October 29, 2001.

ADDRESSES: Those interested in presenting written comments on the topics presented in the SUPPLEMENTARY INFORMATION, or any related topics, may mail their comments to the Under Secretary of Commerce for Intellectual Property and Director of the United States Patent and Trademark Office, Washington, D.C. 20231, marked to the attention of Ronald Hack, Acting Chief Information Officer, or send them by facsimile transmission to (703) 308-7792.

Parties are encouraged to provide their comments in machine-readable format and send them over the Internet as electronic mail messages to file-removal@uspto.gov. Machine-readable submissions should be provided as unformatted text (e.g., ASCII or plain text), or as formatted text in one of the following file formats: Microsoft Word (Macintosh, DOS or Windows versions) or WordPerfect (Macintosh, DOS or Windows versions). Machine-readable submissions may be provided on a 3½-inch floppy disk formatted for use in either a Macintosh or MSDOS-based computer, mailed to the Under Secretary of Commerce for Intellectual Property and Director of the United States Patent and Trademark Office, Washington, DC 20231, marked to the attention of Ronald Hack, Acting Chief Information Officer.

FOR FURTHER INFORMATION CONTACT: Ronald Hack by telephone at (703) 305-9095, by facsimile at (703) 308-7792, by electronic mail at ronald.hack@uspto.gov; Martha Sneed by telephone at (703) 308-5558, by facsimile at (703) 306-2654, by electronic mail at martha.sneed@uspto.gov; or by mail addressed to the Under Secretary of Commerce for Intellectual Property and Director of the United States Patent and Trademark Office, Washington, DC 20231, marked to the attention of Ronald Hack, Acting Chief Information Officer.

SUPPLEMENTARY INFORMATION: The Notice of Request for Comments on Development of a Plan To Remove the Patent and Trademark Classified Paper Files From the Public Search Facilities was published at 66 FR 45012 on August 27, 2001. The period for comment in the Notice of Request for Comments ended September 26, 2001. The comment period is reopened, and comments will be accepted by the USPTO until October 29, 2001. Comments received after September 26, 2001, but before the date this notice is published will also be accepted. All comments should include the following information:

Name and affiliation of the individual responding;

An indication of whether comments offered represent views of the respondent's organization or are the respondent's personal views; and

If applicable, information on the respondent's organization, including the type of organization (e.g., business, trade group, university, non-profit organization).

Dated: September 28, 2001.
Anne H. Chasser,
Acting Under Secretary of Commerce for Intellectual Property and Acting Director of the United States Patent and Trademark Office.

[FR Doc. 01-24880 Filed 10-3-01; 8:45 am]

BILLING CODE 3510-16-P